DEPARTMENT OF JUSTICE

Antitrust Division

Notice Pursuant to the National Cooperative Research and Production Act of 1993—iRobot Corporation

Notice is hereby given that, on May 15, 2009, pursuant to Section 6(a) of the National Cooperative Research and Production Act of 1993, 15 U.S.C. 4301 et seq. (“the Act”), iRobot Corporation (“iRobot”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: iRobot, Bedford, MA; Georgia Tech Research Corporation, Atlanta, GA; Lockheed Martin Advanced Technologies Laboratories, Cherry Hill, NJ; the Massachusetts Institute of Technology, Cambridge, MA; Sarnoff Corporation, Princeton, NJ; The Board of Trustees of the Leland Stanford Junior University, Stanford, CA; and The Regents of the University of New Mexico, Albuquerque, NM. The general area of iRobot's planned activity is to engage in cooperative research and development in the area of robotic perception, intelligence, human-robot interaction, and dexterous manipulation and unique mobility.

Patricia A. Brink,
Deputy Director of Operations, Antitrust Division.

[FR Doc. E9-14983 Filed 6-24-09; 8:45 am]

BILLING CODE 4410-11-M